DEPARTMENT OF THE INTERIOR

Bureau of Land Management

[LLNM915000L14200000.BJ0000]

Notice of Filing of Plats of Survey, New Mexico

AGENCY: Bureau of Land Management, Interior.

ACTION: Notice of filing of Plats of Survey.

SUMMARY: The plats of survey described below are scheduled to be officially filed in the New Mexico State Office, Bureau of Land Management (BLM), Santa Fe, New Mexico, thirty (30) calendar days from the date of this publication.

SUPPLEMENTARY INFORMATION:

New Mexico Principal Meridian, New Mexico (NM):

The plat representing the dependent resurvey and survey in Township 15 North, Range 19 West, of the New Mexico Principal Meridian, accepted March 17, 2010, for Group 1103 NM.

The plat representing the dependent resurvey and survey, in Township 23 North, Range 8 East, of the New Mexico Principal Meridian, accepted February 12, 2010, for Group 1092 NM.

The plat, in two sheets, representing the dependent resurvey and survey, of the San Clemente Grant, accepted January 29, 2010, for Group 1072 NM.

The plat, in two sheets, representing the dependent resurvey and survey, in Township 24 North, Range 11 East, of the New Mexico Principal Meridian, accepted March 10, 2010, for Group 992 NM.

Indian Meridian, Oklahoma (OK):

The plat, in two sheets, representing the dependent resurvey and survey in Township 17 North, Range 12 West, of the Indian Meridian, accepted December 24, 2009, for Group 182 OK.

If a protest against a survey, as shown on any of the above plats is received prior to the date of official filing, the filing will be stayed pending consideration of the protest. A plat will not be officially filed until the day after all protests have been dismissed and become final or appeals from the dismissal affirmed.

A person or party who wishes to protest against any of these surveys must file a written protest with the New Mexico State Director, Bureau of Land Management, stating that they wish to protest.

A statement of reasons for a protest may be filed with the notice of protest to the State Director, or the statement of reasons must be filed with the State Director within thirty (30) days after the protest is filed.

FOR FURTHER INFORMATION CONTACT: These plats will be available for inspection in the New Mexico State Office, Bureau of Land Management, 301 Dinosaur Trail, Santa Fe, New Mexico. Copies may be obtained from this office upon payment. Contact Marcella Montoya at 505-954-2097, or by e-mail at Marcella_Montoya@nm.blm.gov, for assistance.

Stephen W. Beyerlein,
Acting Chief, Branch of Cadastral Survey/GeoSciences.

[FR Doc. 2010-7712 Filed 4-5-10; 8:45 am]

BILLING CODE 4310-FB-P